DEPARTMENT OF TRANSPORTATION

Federal Aviation Administration

Commercial Space Transportation Advisory Committee—Public Teleconference

AGENCY: Federal Aviation Administration (FAA), DOT.

ACTION: Notice of Commercial Space Transportation Advisory Committee Teleconference.

SUMMARY: Pursuant to the Federal Advisory Committee Act, notice is hereby given of a teleconference of the Business/Legal Working Group (BLWG) of the Commercial Space Transportation Advisory Committee (COMSTAC).

DATES: The teleconference will take place on Friday, January 25, 2013, from 11 a.m. to 12 p.m. U.S. Eastern Standard Time.

ADDRESSES: The teleconference call-in number and passcode will be posted by approximately one week prior to the teleconference date at the following Web site link: http://www.faa.gov/about/office_org/headquarters_offices/ast/advisory_committee/. Individuals who participate in the teleconference should contact Paul Eckert, Designated Federal Officer (DFO), by email approximately 15 minutes before the call begins, using the email address provided in the FOR FURTHER INFORMATION CONTACT section.

FOR FURTHER INFORMATION CONTACT: Paul Eckert, Office of Commercial Space Transportation (AST), 800 Independence Avenue SW., Room 331, Washington, DC 20591, telephone (202) 267-8055; Email paul.eckert@faa.gov.

SUPPLEMENTARY INFORMATION: The purpose of this call is to discuss how to respond to a request to COMSTAC by the FAA Office of Commercial Space Transportation (FAA/AST), regarding how best to conduct a review of the Office's methodology for calculation of Maximum Probable Loss (MPL). The FAA/AST request to COMSTAC took place following a 2012 Government Accountability Office (GAO) report titled “Commercial Space Launches—FAA Should Update How It Assesses Federal Liability Risk.” This report included a recommendation calling for FAA/AST to carry out periodic reviews of its MPL methodology. GAO further stated that FAA/AST should consider using external experts in the course of an MPL review.

The MPL represents an estimate of the maximum probable cost of damage to life and property, in the event of a launch mishap. MPL calculation has considerable significance, because the figure is used to determine the financial responsibility requirements of each launch license or experimental permit holder. While AST believes its current MPL methodology has been effective, GAO's recommendation to conduct a review of the methodology is prudent given the growth of the commercial space transportation industry and the amount of time that has passed since MPL modification.

In addition to or in lieu of teleconference participation, interested members of the public may submit relevant written statements for COMSTAC to consider, in compliance with advisory committee procedures. Statements may address the issues mentioned above or additional issues that may be relevant for the U.S. commercial space transportation industry. Interested parties wishing to submit written statements regarding the January 25, 2013 teleconference should contact Paul Eckert, DFO (the Contact Person listed below) in writing (i.e., by mail or email) by January 18, 2013. Written statements should be supplied in the following formats: one hard copy with original signature or one electronic copy via email.

Individuals who plan to participate and need special assistance should inform the Contact Person listed below in advance of the meeting.

Complete information regarding COMSTAC is available on the FAA Web site at: http://www.faa.gov/about/office_org/headquarters_offices/ast/advisory_committee/.

Issued in Washington, DC, on January 2, 2013.
George C. Nield,
Associate Administrator for Commercial Space Transportation.

[FR Doc. 2013-00279 Filed 1-8-13; 8:45 am]

BILLING CODE 4910-13-P